FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Benjamin W. McDonough, Deputy Secretary of the Board, 20th Street and Constitution Avenue NW, Washington, DC 20551-0001, not later than November 28, 2025.

A. Federal Reserve Bank of Cleveland (Jenni M. Frazer, Vice President) 1455 East Sixth Street, Cleveland, Ohio 44101-2566. Comments can also be sent electronically to Comments.applications@clev.frb.org:

1. Larry Lindamood, individually, and as trustee of The Lindamood Family Trust and the lntervivos Trust of Marvin A. Lindamood, all of New Lexington, Ohio; Maeanna Lindamood, New Lexington, Ohio, as trustee of The Lindamood Family Trust; Patricia Weese, New Lexington, Ohio, individually, and as trustee of the lntervivos Trust of Marvin A. Lindamood; Ashley Nash and Christopher Weese, New Lexington, Ohio; and Phillip Weese, San Diego, California; as a group acting in concert, to retain voting shares of Peoples National Bancshares, Inc., and thereby indirectly retain voting shares of Peoples State Bank, both of New Lexington, Ohio.

B. Federal Reserve Bank of Chicago (Colette A. Fried, Assistant Vice President) 230 South LaSalle Street, Chicago, Illinois 60690-1414. Comments can also be sent electronically to Comments.applications@chi.frb.org:

1. The Leon J. Mizeur Roth IRA; the Leon J. Mizeur IRA; the Leon J. Mizeur Trust, Leon J. Mizeur, as trustee; Robert T. Mizeur; the Robert T. Mizeur IRA; the Ellen A. Mizeur Trust, Ellen A. Mizeur, as trustee; Mary Mizeur; Peter J. Bolt; Lisa A. Bolt; Susan C. Faivre; Samual T. Faivre; Seth J. Faivre; Ella C. Faivre; Andrew Bolt; Daniel Bolt; Mary C. Mizeur; Anne K. Mizeur; and other minor children, all of Springfield, Illinois; as a group acting in concert, to retain voting shares of First Illinois Corporation, and thereby indirectly retain voting shares of HPB Holdings, Inc., and Hickory Point Bank and Trust, both of Decatur, Illinois.

2. Todd M. Madson, Jefferson, Iowa, as voting proxy for Cheri S. Delay, Jefferson, Iowa; Mark S. Larson, Rushford, Minnesota; Pamela S. Larson, Nashville, Tennessee; Lucas J. Lautner, Urbandale, Iowa; Michael T. Licht, Fort Dodge, Iowa; Bret A. Madson, Jefferson, Iowa; the Marie A. Madson Trust, Marie A. Madson, as trustee, both of Fairfax Station, Virginia; Roxanne L. Madson, Lee's Summit, Missouri; and Debra L. Swift, Warren, Connecticut; to retain voting shares of Security Financial, Inc., Farnhamville, Iowa, and thereby indirectly retain voting shares of Security Savings Bank, Gowrie, Iowa.

Additionally, the Todd M. Madson Trust, Todd M. Madson, as trustee, both of Jefferson, Iowa; to acquire voting shares and together with the aforementioned persons, to join the Lane-Madson Control Group, a group acting in concert, to acquire voting shares of Security Financial, Inc., and thereby indirectly acquire voting shares of Security Savings Bank.

3. Rexann L. Brant Revocable Trust, Rexann L. Brant as trustee, both of Paullina, Iowa; to join the Leng Family Group, a group acting in concert, to retain voting shares of Capital Bancshares, Inc., and thereby indirectly retain voting shares of Savings Bank, both of Primghar, Iowa.

4. The Family Trust created under the Mary E. Lensing Revocable Bank Stock Trust, Marion, Iowa; Hills Bank and Trust Company, as co-trustee, Cedar Rapids, Iowa; and Clair J. Lensing, individually and as co-trustee, Marion, Iowa; to join the Lensing Family Control Group, a group acting in concert, to retain voting shares of Fayette Bancorporation, Marion, Iowa, and thereby indirectly retain voting shares of Maynard Savings Bank, Maynard, Iowa.

5. Brian David Reichter, Hawkeye, Iowa, individually, and as co-trustee of The Bank 1st Employee Stock Ownership Plan (“ESOP”), West Union, Iowa; Tobin Lee Britt, individually, and as co-trustee of ESOP, Shannon Sue Schissel, as co-trustee of ESOP, both of West Union, Iowa; Kimberly Kay Reichter, Hawkeye, Iowa; and Cheryl Ann Reichter, Elkader, Iowa; as a group acting in concert, to acquire voting shares of FNB BanShares, Inc., and thereby indirectly acquire voting shares of Bank 1st, both of West Union, Iowa.

C. Federal Reserve Bank of St. Louis (Holly A. Rieser, Senior Manager) P.O. Box 442, St. Louis, Missouri 63166-2034. Comments can also be sent electronically to Comments.applications@stls.frb.org:

1. The John W. Waller GST Exempt Trust FBO John Thomas Waller dated July 2, 2004, John Thomas Waller as trustee, both of Sullivan, Missouri; the John W. Waller GST Exempt Trust FBO Matthew James Waller dated July 2, 2004, Matthew James Waller as trustee, both of Manchester, Missouri; the John W. Waller GST Exempt Trust FBO Timothy Scott Waller dated July 2, 2004, Timothy Scott Waller as trustee, both of Sullivan, Missouri; the John W. Waller GST Exempt Trust FBO Cody John Waller dated July 2, 2004, and the John W. Waller GST Non-Exempt Trust FBO Cody John Waller dated July 2, 2004, Cody John Waller as trustee, all of Bourbon, Missouri; to join the Waller Family Control Group, a group acting in concert, to acquire voting shares of Saint Clair Bancshares, Inc., and thereby indirectly acquire voting shares of Farmers and Merchants Bank of St. Clair, both of St. Clair, Missouri.

2. Maribeth Moore Frazer, Warren, Arkansas; to acquire voting shares of Warren Bank and Trust Company, Warren, Arkansas.

D. Federal Reserve Bank of Kansas City (Jeffrey Imgarten, Assistant Vice President) 1 Memorial Drive, Kansas City, Missouri 64198-0001. Comments can also be sent electronically to KCApplicationComments@kc.frb.org:

1. Andrew R. Clements and Aaron M. Clements, both of Elmwood, Nebraska; to acquire voting shares of American Exchange Company, and thereby indirectly acquire voting shares of American Exchange Bank, both of Elmwood, Nebraska.

2. Randolph (Russ) Meacham, Jr., Ryan Meacham, Christopher Jones, and Dacia Phillips, all of Clinton, Oklahoma, and Andrew Albert, Elk City, Oklahoma; to establish a group acting in concert; to acquire voting shares of Rocky Financial Corporation, and thereby indirectly acquire voting shares of Bank 360, both of Cordell, Oklahoma.

3. MC Houghton Trust Dated March 3, 2025, Marcus Houghton and Corbin Houghton, as co-trustees, all of Wichita, Kansas; to join the Houghton Family Group, a group acting in concert, to acquire voting shares of PBT Bancshares, Inc., and thereby indirectly acquire voting shares of Peoples Bank and Trust Company, both of McPherson, Kansas.

4. Moneta Trust, St. Louis, Missouri, as trustee of the Joyce V. Hale GRAT Trust fbo Max Alan Hale Family u/a/d July 31, 2003, the JVH Orion Trust for the Max Alan Hale Family u/a/d July 8, 2011, the JVH Orion Trust for the Lisa K. Hale Family u/a/d July 8, 2011, and the JJH Credit Shelter Trust u/a/d August 4, 2023, all of Kansas City, Missouri; Dana Hale Nelson as trustee of the JVH Orion Trust for the Dana Hale Nelson Family u/a/d July 8, 2011, both of Kansas City, Missouri; Karen Hale Young, as trustee of the JVH Orion Trust for the Karen Hale Young Family u/a/d July 8, 2011, and the Joyce V. Hale GRAT f/b/o Karen Hale Young Family u/a/d July 8, 2011, all of Kansas City, Missouri; Mollie Carter, Denver, Colorado, and Roger Gallo, Kansas City, Missouri, as co-trustees of Orion VHC Trust for the benefit of the Mollie H. Carter Family u/a/d July 8, 2011, and the Wood Racket Trust, both of Kansas City, Missouri; to join the Hale Family Control Group, a group acting in concert, to retain voting shares of FirstSun Capital Bancorp, Denver, Colorado (“FirstSun”), and thereby indirectly retain voting shares of Sunflower Bank, National Association, Dallas, Texas (“Sunflower Bank”).

In addition, The JJH Credit Shelter Trust u/a/d August 4, 2023, Innes B. Hale, Kansas City, Missouri, and Ennis A. Rios and Ambyr R. Rios, both of Manhattan, Kansas; to join the Hale Family Control Group, a group acting in concert, to acquire voting shares of FirstSun, and thereby indirectly acquire voting shares of Sunflower Bank.

Board of Governors of the Federal Reserve System.
Michele Taylor Fennell,
Associate Secretary of the Board.

[FR Doc. 2025-19853 Filed 11-10-25; 8:45 am]

BILLING CODE 6210-01-P